DEPARTMENT OF THE INTERIOR

Meeting of the California Desert District Advisory Council

AGENCY: Bureau of Land Management, Interior.

ACTION: Notice of public meeting.

SUMMARY: Notice is hereby given, in accordance with Public Laws 92-463 and 94-579, that the California Desert District Advisory Council to the Bureau of Land Management (BLM), U.S. Department of the Interior, will participate in a field tour of the BLM-administered public lands.

DATES: Friday, October 22, 2004, from 8 a.m. to 5 p.m., and meet in formal session on Saturday, October 23, from 8 a.m. to 4 p.m. The Saturday meeting will be held at the Needles City Council Chambers, located at 1111 Bailey, Needles, California.

ADDRESSES: The field office is located at 101 West Spikes Road in Needles, California.

SUPPLEMENTARY INFORMATION: The Council and interested members of the public will depart for a field tour from the parking lot of the BLM's field office in Needles at 8 a.m. Tour stops will include the Route 66 interpretive display and a BLM grazing allotment. Presentations and discussions will focus on current grazing management and proposed revisions to the grazing regulations. The public is welcome to participate in the tour, but should plan on providing their own transportation, drinks, and lunch.

Agenda items tentatively scheduled for the Saturday Council meeting will include the election of officers, reports by Advisory Council members, the District Manager and the five District field office managers, a briefing on the U.S. Fish and Wildlife Service's raven management initiative, and an update on the Desert Managers Group's Desert Tortoise Education and Outreach Plan. BLM will also brief the Council on the status of the Eastern San Diego County Resource Management Plan, and review the 10-year anniversary of the passage of the California Desert Protection Act.

All Desert District Advisory Council meetings are open to the public. Time for public comment may be made available by the Council Chairman during the presentation of various agenda items, and is scheduled at the end of the meeting for topics not on the agenda.

Written comments may be filed in advance of the meeting for the California Desert District Advisory Council, c/o Bureau of Land Management, Public Affairs Office, 22835 Calle San Juan De Los Lagos, Moreno Valley, California 92553. Written comments also are accepted at the time of the meeting and, if copies are provided to the recorder, will be incorporated into the minutes.

Dated: September 27, 2004.
Alan Stein,
Assistant District Manager.

[FR Doc. 04-22536 Filed 10-6-04; 8:45 am]

BILLING CODE 4310-40-P